NUCLEAR REGULATORY COMMISSION

[Docket No. 50-285]

Omaha Public Power District; Notice of Consideration of Issuance of Amendment to Facility Operating License, Proposed No Significant Hazards Consideration Determination, and Opportunity for a Hearing

The U.S. Nuclear Regulatory Commission (the Commission) is considering issuance of an amendment to Facility Operating License No. DPR-40 issued to Omaha Public Power District (the licensee) for operation of the Fort Calhoun Station, Unit No. 1, located in Washington County, Nebraska.

The proposed amendment would change the surveillance requirements for laboratory testing of the charcoal adsorbers for the control room, the spent fuel pool storage area and the safety injection pump rooms. In addition, the amendment would delete the laboratory testing requirements for the containment charcoal adsorbers. The changes comply with the guidance of Generic Letter (GL) 99-02, “Laboratory Testing of Nuclear-Grade Activated Charcoal.”

Before issuance of the proposed license amendment, the Commission will have made findings required by the Atomic Energy Act of 1954, as amended (the Act) and the Commission's regulations.

The Commission has made a proposed determination that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. The proposed change does not involve a significant increase in the probability or consequences of an accident previously evaluated.

Testing the control room, spent fuel pool storage area and safety injection pump rooms charcoal adsorbers in accordance with the requirements of ASTM D3803-1989 will not increase the probability or consequences of an accident previously evaluated. As noted in GL 99-02, testing to the new standards will strengthen the assurance the charcoal adsorbers will perform their design function during a Loss of Coolant Accident (LOCA). The ASTM D3803-1989 testing methodology is superior to the method OPPD [Omaha Public Power District] presently uses.

Removing credit for the containment charcoal adsorbers and replacing their function with the containment spray system will not involve a significant increase in the probability or consequences of an accident previously evaluated. This change is being accomplished in accordance with SRP [Standard Review Plan] 6.5.2. The containment spray system is an ESF [engineered safety feature] system and its operability is assured by Technical Specifications 2.4 and 3.6. In addition, the LOCA radiological consequences analyses were revised to re-confirm that OPPD is in compliance with SRP 6.4. The revised analyses resulted in a post-LOCA control room thyroid dose of 32 REM, which exceeds the SRP 6.4 limit of 30 REM. The SRP 6.4 dose limits are based on ICRP-2 dose methodology. The critical organ approach of ICRP-2 has been replaced by the ICRP-30 dose methodology that utilizes a weighted sum of doses to all irradiated organs and tissues. The applicable dose limits for analyses utilizing the ICRP-20 methodology are 5 REM for stochastic effects, 50 REM for all organs and tissues (e.g., thyroid), and 15 REM for the lens of the eye. The ICRP-30 dose methodology has been approved and implemented by the NRC through the new 10 CFR Part 20 regulation. Therefore, the calculated doses presented above are acceptable and meet the intent of SRP 6.4.

Finally, these changes will not affect non-credited functions of the containment charcoal adsorbers. The filters will be left in place, but not credited in the Loss of Coolant (LOCA) radiological consequences analyses. The filters will be tested in accordance with TS 3.6 (3) to verify they are not clogged by excessive amounts of foreign matter.

In conclusion, based on the discussion above, these changes will not significantly increase the probability or consequences of an accident previously evaluated.

2. The proposed change does not create the possibility of a new or different kind of accident from any accident previously evaluated.

Testing the control room, spent fuel pool storage area and safety injection pump rooms charcoal adsorbers in accordance with the requirements of ASTM D3803-1989 will not create the possibility of a new or different kind of accident from any accident previously evaluated. Testing to the new standards will strengthen the assurance the charcoal adsorbers will perform their design function during a Loss of Coolant Accident. The ASTM D3803-1989 testing protocol is superior to the method OPPD presently uses. Finally, testing these charcoal adsorbers in accordance with requirements of ASTM D3803-1989 will bring OPPD in compliance with the requirements of Generic Letter 99-02.

Removing credit for the containment charcoal adsorbers and replacing their function with the containment spray system will not create the possibility of a new or different kind of accident from any accident previously evaluated. This change is being accomplished in accordance with SRP 6.5.2. Using the containment spray system instead of the containment charcoal adsorbers is a different, but equally effective, approach to mitigating the consequences of a LOCA.

This change will not result in any physical alterations to the containment spray system or the control room, spent fuel pool storage area, S.I. [safety injection] pump rooms or containment charcoal adsorbers. This change will not result in any physical alterations to any plant configuration, systems, or operational characteristics. There will be no changes in operating modes, or safety limits, or instrument limits. Therefore, these changes do not create the possibility of a new or different kind of accident from any accident previously evaluated.

3. The proposed change does not involve a significant reduction in a margin of safety.

Testing the control room, spent fuel pool storage area and S.I. pump rooms charcoal adsorbers in accordance with the requirements of ASTM D3803-1989 will not involve a significant reduction in a margin of safety. Testing to the new standards will strengthen the assurance the charcoal adsorbers will perform their design function during a LOCA. The ASTM D3803-1989 testing protocol is superior to the method OPPD presently uses. Finally, testing these charcoal adsorbers in accordance with requirements of ASTM D3803-1989 will bring OPPD in compliance with the requirements of Generic Letter 99-02. Removing credit for the containment charcoal adsorbers and replacing their function with the containment spray system will not involve a significant reduction in a margin of safety.

This change is being accomplished in accordance with SRP 6.5.2. The containment spray system is an ESF system and its operability is assured by Technical Specifications 2.4 and 3.6. In addition, the LOCA radiological consequences analyses were revised to re-confirm that OPPD is in compliance with SRP 6.4.

The revised analyses resulted in a post-LOCA control room thyroid dose of 32 REM, which exceeds the SRP 6.4 limit of 30 REM. The SRP 6.4 dose limits are based on ICRP-2 dose methodology. The critical organ approach of ICRP-2 has been replaced by the ICRP-30 dose methodology that utilizes a weighted sum of doses to all irradiated organs and tissues. The applicable dose limits for analyses utilizing the ICRP-30 methodology are 5 REM for stochastic effects, 50 REM for all organs and tissues (e.g., thyroid), and 15 REM for the lens of the eye. The ICRP-30 dose methodology has been approved and implemented by the NRC through the new 10 CFR 20 regulation. Therefore, the calculated doses presented above are acceptable and meet the intent of SRP 6.4.

Finally, these changes will not affect non-credited functions of the containment charcoal adsorbers. The filters will be left in place, but not credited in the Loss of Coolant Accident (LOCA) radiological consequences analyses.

In conclusion, these changes will not significantly reduce a margin of safety because: (1) Use of a superior test methodology will provide better assurance of the safety functionality of credited charcoal filters, and (2) the analysis for control room dose is now based on empirical in-leakage data.

The NRC staff has reviewed the licensee's analysis and, based on this review, it appears that the three standards of 10 CFR 50.92(c) are satisfied. Therefore, the NRC staff proposes to determine that the amendment request involves no significant hazards consideration.

The Commission is seeking public comments on this proposed determination. Any comments received within 30 days after the date of publication of this notice will be considered in making any final determination.

Normally, the Commission will not issue the amendment until the expiration of the 30-day notice period. However, should circumstances change during the notice period such that failure to act in a timely way would result, for example, in derating or shutdown of the facility, the Commission may issue the license amendment before the expiration of the 30-day notice period, provided that its final determination is that the amendment involves no significant hazards consideration. The final determination will consider all public and State comments received. Should the Commission take this action, it will publish in the Federal Register a notice of issuance and provide for opportunity for a hearing after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room, located at One White Flint North, 11555 Rockville Pike (first floor), Rockville, Maryland.

The filing of requests for hearing and petitions for leave to intervene is discussed below.

By April 5, 2001, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714 which is available at the Commission's Public Document Room, located at One White Flint North, 11555 Rockville Pike (first floor), Rockville, Maryland, and accessible electronically through the ADAMS Public Electronic Reading Room link at the NRC Web site (http://www.nrc.gov). If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If a hearing is requested, the Commission will make a final determination on the issue of no significant hazards consideration. The final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, located at One White Flint North, 11555 Rockville Pike (first floor), Rockville, Maryland, by the above date. A copy of the petition should also be sent to the Office of the General Counsel, U.S. Nuclear Regulatory Commission, Washington, DC 20555-0001, and to James R. Curtiss, Esq., Winston & Strawn, 1400 L Street, N.W., Washington, DC 20005-3502, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated April 14, 2000, and supplements dated June 2, July 28, and December 1, 2000, and January 31, 2001, which are available for public inspection at the Commission's Public Document Room, located at One White Flint North, 11555 Rockville Pike (first floor), Rockville, Maryland, and accessible electronically through the ADAMS Public Electronic Reading Room link at the NRC Web site (http://www.nrc.gov).

Dated at Rockville, Maryland, this 1st day of March 2001.
For the Nuclear Regulatory Commission.
L. Raynard Wharton,
Project Manager, Section 2 Project Directorate IV and Decomissioning Division of Licensing Project Management, Office of Nuclear Reactor Regulation.

[FR Doc. 01-5409 Filed 3-2-01; 8:45 am]

BILLING CODE 7590-01-P